NUCLEAR REGULATORY COMMISSION

[Docket No. 50-395; NRC-2023-0152]

Dominion Energy South Carolina, Inc.; Virgil C. Summer Nuclear Station, Unit No. 1

AGENCY: Nuclear Regulatory Commission.

ACTION: Subsequent license renewal application; receipt.

SUMMARY: The U.S. Nuclear Regulatory Commission (NRC) has received an application for the subsequent renewal of Renewed Facility Operating License No. NPF-12, which authorizes Dominion Energy South Carolina, Inc. (DESC) to operate Virgil C. Summer Nuclear Station, Unit No. 1 (V.C. Summer). The subsequent renewed license would authorize the applicant to operate V.C. Summer for an additional 20 years beyond the period specified in the current license. The current operating license for V.C. Summer expires August 6, 2042.

DATES: The subsequent license renewal application referenced in this document was available as of September 5, 2023.

ADDRESSES: Please refer to Docket ID NRC-2023-0152 when contacting the NRC about the availability of information regarding this document. You may obtain publicly available information related to this document using any of the following methods:

• Federal Rulemaking website: Go to https://www.regulations.gov and search for Docket ID NRC-2023-0152. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The Virgil C. Summer Nuclear Station Application for Subsequent License Renewal is available in ADAMS under Accession No. ML23233A172.

• Public Library: A copy of the subsequent license renewal application can be accessed at the following public library: Fairfield County Library, 300 W Washington St., Winnsboro, SC 29180.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Marieliz Johnson, Office of Nuclear Reactor Regulation, U.S. Nuclear Regulatory Commission, Washington, DC 20555-0001; telephone: 301-415-5861; email: Marieliz.VeraAmadiz@nrc.gov.

SUPPLEMENTARY INFORMATION: The NRC has received an application from DESC, dated August 17, 2023, filed pursuant to Section 103 of the Atomic Energy Act of 1954, as amended, and part 54, of title 10 of the Code of Federal Regulations, “Requirements for Renewal of Operating Licenses for Nuclear Power Plants,” to renew the operating license for V.C. Summer. The current operating license was previously renewed on April 23, 2004. Subsequent renewal of the license would authorize the applicant to operate the facility for an additional 20-year period beyond the period specified in the current operating license. The current operating license for V.C. Summer expires August 6, 2042. V.C. Summer is a pressurized-water reactor located near Jenkinsville, South Carolina. The acceptability of the tendered application for docketing, and other matters, including an opportunity to request a hearing, will be the subject of subsequent Federal Register notices.

Dated: September 5, 2023.
For the Nuclear Regulatory Commission.
Lauren K. Gibson,
Chief, License Renewal Project Branch, Division of New and Renewed Licenses, Office of Nuclear Reactor Regulation.

[FR Doc. 2023-19472 Filed 9-8-23; 8:45 am]

BILLING CODE 7590-01-P